DEPARTMENT OF AGRICULTURE

Food and Nutrition Service

Agency Information Collection Activities: Proposed Collection; Comment Request—Status of Claims Against Households (Form FNS-209)

AGENCY: Food and Nutrition Service, USDA.

ACTION: Notice.

SUMMARY: In accordance with the Paperwork Reduction Act of 1995, this notice invites the general public and other public agencies to comment on the proposed information collection for the FNS-209, Status of Claims Against Households. This is a revision of an approved collection.

The purpose of the Status of Claims Against Households is to provide a standardized format for State agencies submitting reports to the Food and Nutrition Service. Sections 11, 13, and 16 of the Food and Nutrition Act of 2008 (the Act) are the basis for the information collected on Form FNS-209, Status of Claims Against Households. Section 11 of the Act requires that State agencies submit reports and other information that are necessary to determine compliance with the Act and its implementing regulations. Section 13 of the Act requires State agencies to establish claims and collect overpayments against households. Section 16 of the Act authorizes State agencies to retain a portion of what is collected. The FNS-209 is used as the mechanism for State agencies to report the claim establishment, collection and retention amounts.

DATES: Written comments must be submitted on or before June 4, 2012.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

Comments may be sent to Jane Duffield, Branch Chief, State Administration Branch, Program Accountability and Administration Division, Food and Nutrition Service, U.S. Department of Agriculture, 3101 Park Center Drive, Room 818, Alexandria, VA 22302. You may also download an electronic version of this notice at http://www.fns.usda.gov/fsp/rules/regulations/default.htm and comment via email at SNAPHQ-Web@fns.usda.gov or use the Federal e-Rulemaking Portal. Go to http://www.regulations.gov and follow the online instructions for submitting comments electronically.

All written comments will be open for public inspection at the office of the Food and Nutrition Service during regular business hours (8:30 a.m. to 5 p.m., Monday through Friday) at 3101 Park Center Drive, Room 822, Alexandria, Virginia 22302.

All comments to this notice will be included in the request for Office of Management and Budget approval. All comments will also become a matter of public record.

FOR FURTHER INFORMATION CONTACT: Requests for additional information or copies of the information collection form and instruction should be directed to Jane Duffield at (703) 605-4385.

SUPPLEMENTARY INFORMATION: Title: Status of Claims Against Households.

OMB Number: 0584-0069.

Form Number: FNS-209.

Expiration Date: August 31, 2012.

Type of Request: Extension of currently approved collections.

Abstract: SNAP regulations at 7 CFR 273.18 require that State agencies establish, collect and efficiently manage SNAP recipient claims. Paragraph 7 CFR 273.18(m)(5) requires State agencies to submit at the end of every quarter the completed Form FNS-209, Status of Claims Against Households. The information required for the FNS-209 report is obtained from a State accounting system responsible for establishing claims, sending demand letters, collecting claims, and managing other claim activity. In general, State agencies must report the following totals on the FNS-209: the current outstanding aggregate claim balance; claims established; collections; any balance and collection adjustments; and the amount to be retained for collecting non-agency error claims. The burden associated with establishing claims (demand letters) and the Treasury Offset Program, both which are also used to complete the FNS-209, are already approved under OMB burden numbers 0584-0492, expiration date 9/30/2014, and 0584-0446, expiration date 02/28/2013, respectively. The estimated annual burden is 636 hours. This is the same as the currently approved burden. This estimate includes the time it takes each State agency to accumulate and tabulate the data necessary to complete the report four times a year. State agencies must retain the records that support the FNS-209 data for 3 years; because this reflects three-year routine business practice and the Program is not imposing any recordkeeping hours in this data collection.

Affected Public: State, Local and Tribal Government Agencies.

Number of Respondents: 53 State Agencies.

Number of Responses per Respondent: 4.

Total Annual Responses: 212.

Reporting Time per Response: 3 Hours.

Estimated Annual Reporting Burden Hours: 636.

Dated: March 26, 2012.
Audrey Rowe,
Administrator, Food and Nutrition Service.

[FR Doc. 2012-7991 Filed 4-2-12; 8:45 am]

BILLING CODE 3410-30-P